DEPARTMENT OF ENERGY

Federal Energy Regulatory Commission

Combined Notice of Filings #1

Take notice that the Commission received the following electric corporate filings:

Docket Numbers: EC18-101-000.

Applicants: Langdon Wind, LLC, Langdon Renewables, LLC.

Description: Application for Authorization Under Section 203 of the Federal Power Act and Request for Expedited Action of Langdon Wind, LLC, et. al.

Filed Date: 6/13/18.

Accession Number: 20180613-5026.

Comments Due: 5 p.m. ET 7/5/18.

Take notice that the Commission received the following exempt wholesale generator filings:

Docket Numbers: EG18-99-000.

Applicants: Meadowlark Wind I LLC.

Description: Self-Certification of Exempt Wholesale Generator Status of Meadowlark Wind I LLC.

Filed Date: 6/13/18.

Accession Number: 20180613-5101.

Comments Due: 5 p.m. ET 7/5/18.

Take notice that the Commission received the following electric rate filings:

Docket Numbers: ER17-211-004.

Applicants: Mid-Atlantic Interstate Transmission, LLC, PJM Interconnection, L.L.C.

Description: Compliance filing: MAIT submits compliance filing to the Commission's 5/21/18 order in ER17-211 to be effective 5/1/2018.

Filed Date: 6/13/18.

Accession Number: 20180613-5051.

Comments Due: 5 p.m. ET 7/5/18.

Docket Numbers: ER18-1244-001.

Applicants: Emera Maine.

Description: Tariff Amendment: Deficiency Response (ER18-1213-000 and ER18-1244-000) to be effective 6/1/2018.

Filed Date: 6/13/18.

Accession Number: 20180613-5010.

Comments Due: 5 p.m. ET 7/5/18.

Docket Numbers: ER18-1775-000.

Applicants: 64KT 8me LLC.

Description: Baseline eTariff Filing: Application for Market Based Rate to be effective 6/14/2018.

Filed Date: 6/13/18.

Accession Number: 20180613-5034.

Comments Due: 5 p.m. ET 7/5/18.

Docket Numbers: ER18-1776-000.

Applicants: Southwest Power Pool, Inc.

Description: § 205(d) Rate Filing: 3126R3 WAPA NITSA and NOA to be effective 6/1/2018.

Filed Date: 6/13/18.

Accession Number: 20180613-5046.

Comments Due: 5 p.m. ET 7/5/18.

Docket Numbers: ER18-1777-000.

Applicants: Meadowlark Wind I LLC.

Description: Baseline eTariff Filing: MBR Tariff Filing to be effective 8/12/2018.

Filed Date: 6/13/18.

Accession Number: 20180613-5100.

Comments Due: 5 p.m. ET 7/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2018.
Kimberly D. Bose,
Secretary.

[FR Doc. 2018-13199 Filed 6-19-18; 8:45 am]

BILLING CODE 6717-01-P